DEPARTMENT OF COMMERCE

National Oceanic and Atmospheric Administration

RIN 0648-XX01

North Pacific Fishery Management Council; Public Meeting

AGENCY: National Marine Fisheries Service (NMFS), National Oceanic and Atmospheric Administration (NOAA), Commerce.

ACTION: Notice of a public meeting.

SUMMARY: The North Pacific Fishery Management Council's Scientific and Statistical Committee (SSC), and Groundfish Plan Team members will hold a workshop via Web-Ex, July 8, 2010, beginning at 12:30 p.m. Alaska Standard Time (AST) to review methods for determining annual catch limits (ACLs) for Tier 6 groundfish stocks. See SUPPLEMENTARY INFORMATION.

DATES: The meeting will be held on July 8, 2010, 12:30 - 5 p.m. - Web-ex.

ADDRESSES: North Pacific Fishery Management Council, 605 W 4th Avenue, Anchorage, AK, Alaska Fisheries Science Center, 7600 Sand Point Way N.E., Building 4, Seattle, WA and AFSC/Auke Bay Laboratories, 17109 Lena Loop Rd., Juneau, AK.

Council address: North Pacific Fishery Management Council, 605 W. 4th Ave., Suite 306, Anchorage, AK 99501-2252.

FOR FURTHER INFORMATION CONTACT: Jane DiCosimo, North Pacific Fishery Management Council; telephone: (907) 271-2809.

SUPPLEMENTARY INFORMATION: The Council's SSC and Groundfish Plan Team members will hold a workshop via Web-Ex, July 8, 2010, beginning at 12:30 p.m. Alaska Standard Time (AST) to review methods for determining annual catch limits (ACLs) for Tier 6 groundfish stocks. These stocks are poorly sampled by bottom trawl surveys and the catch history may not reflect the productive capacity of these stocks. The teleconference will review existing methods for determining ACLs for these stocks and also consider methods being proposed in other regions of the U.S. to evaluate if these can be applied to groundfish stocks of the Bering Sea and Gulf of Alaska. Contact the Council office for how to connect to the meeting via Web-Ex.

Agenda: The agenda/instruction to connect will be posted on the Council website at: http://www.alaskafisheries.noaa.gov/npfmc/

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Gail Bendixen, (907) 271-2809, at least 5 working days prior to the meeting date.

Dated: June 17, 2010.
Tracey L. Thompson,
Acting Director, Office of Sustainable Fisheries, National Marine Fisheries Service.

[FR Doc. 2010-15039 Filed 6-21-10; 8:45 am]

BILLING CODE 3510-22-S